DEPARTMENT OF AGRICULTURE

Animal and Plant Health Inspection Service

[Docket No. APHIS-2020-0100]

Notice of Decision To Revise Requirements for the Importation of Fresh Melon Fruit From Japan Into the United States

AGENCY: Animal and Plant Health Inspection Service, USDA.

ACTION: Notice.

SUMMARY: We are notifying the public of our decision to revise requirements for the importation of fresh melon fruit with stems from Japan into the United States. Based on the findings of a pest risk analysis, which we made available to the public for review and comment through a previous notice, we have determined that the application of one or more designated phytosanitary measures will be sufficient to mitigate the risks of introducing or disseminating plant pests or noxious weeds via the importation of fresh melon fruit with stems from Japan into the entire United States.

DATES: Imports may be authorized at all U.S. ports beginning November 8, 2021.

FOR FURTHER INFORMATION CONTACT: Ms. Claudia Ferguson, Senior Regulatory Policy Specialist, Regulatory Coordination and Compliance, Imports, Regulations, and Manuals, PPQ, APHIS, 4700 River Road Unit 133, Riverdale, MD 20737-1231; (301) 851-2352.

SUPPLEMENTARY INFORMATION:

Background

Under the regulations in “Subpart L-Fruits and Vegetables” (7 CFR 319.56-1 through 319.56-12, referred to below as the regulations), the Animal and Plant Health Inspection Service (APHIS) of the U.S. Department of Agriculture prohibits or restricts the importation of fruits and vegetables into the United States from certain parts of the world to prevent plant pests from being introduced into and spread within the United States.

Section 319.56-4 of the regulations provides requirements for authorizing the importation of fruits and vegetables into the United States and revising existing requirements for the importation of fruits and vegetables. Paragraph (c) of that section provides that the name and origin of all fruits and vegetables authorized for importation into the United States, as well as the requirements for their importation, be listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

FAVIR had authorized the importation of fresh melon fruit without stems from Japan into Hawaii. The national plant protection organization of Japan, however, requested that we revise these import requirements to authorize importation of melons with stems into the entire United States.

Accordingly, in accordance with the process set forth in the regulations, we published a notice ¹ in the Federal Register on May 21, 2021 (86 FR 27552-27553, Docket No. APHIS-2020-0100), in which we announced the availability, for review and comment, of a pest risk assessment (PRA) that evaluated the risks associated with allowing importation into the entire United States of fresh melon fruit with stems from Japan. Based on the PRA, we also prepared a risk management document to identify phytosanitary measures that could be applied to the fresh melon fruit with stems from Japan to mitigate the pest risk.

¹ To view the notice and supporting documents, go to www.regulations.gov and enter APHIS-2020-0100 in the Search field.

We solicited comments on the notice for 60 days ending July 20, 2021. We did not receive any comments.

Therefore, in accordance with the regulations in § 319.56-4(c)(3)(iii), we are announcing our decision to authorize the importation into the entire United States of fresh melon fruit with stems from Japan subject to the following revised phytosanitary measures:

• Fresh melon fruit with stems from Japan must be imported as commercial consignments only.

• Each consignment must be inspected and accompanied by a phytosanitary certificate issued by the Japanese national plant protection organization stating that the melon fruit with stems is free of cucumber green mottle mosaic virus.

• Each consignment is subject to inspection upon arrival in the United States.

These conditions will be listed in the FAVIR database (available at https://epermits.aphis.usda.gov/manual). In addition to these specific measures, fresh melon fruit with stems from Japan will be subject to the general requirements listed in § 319.56-3 that are applicable to the importation of all fruits and vegetables.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E- Government Act to promote the use of the internet and other information technologies, to provide increased opportunities for citizen access to Government information and services, and for other purposes. For information pertinent to E-Government Act compliance related to this notice, please contact Mr. Joseph Moxey, APHIS' Paperwork Reduction Act Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 2nd day of November 2021.
Mark Davidson,
Acting Administrator, Animal and Plant Health Inspection Service.

[FR Doc. 2021-24342 Filed 11-5-21; 8:45 am]

BILLING CODE 3410-34-P